DEPARTMENT OF COMMERCE

International Trade Administration

[A-570-836]

Glycine From the People's Republic of China: Final Rescission of Antidumping Duty New Shipper Review; 2012

AGENCY: Enforcement and Compliance, formerly Import Administration, International Trade Administration, Department of Commerce.

SUMMARY: On August 23, 2013, the Department of Commerce (the Department) published its Preliminary Rescission for the new shipper review of the antidumping duty order on glycine from the People's Republic of China (PRC) covering the period of review March 1, 2012, through August 31, 2012, for Hebei Donghua Jiheng Fine Chemical Company, Ltd. (Donghua Fine Chemical).¹ For these final results, we continue to find that, because Donghua Fine Chemical appears to be affiliated with PRC-companies that have had prior shipments of subject merchandise to the United States, it has therefore failed to certify to its first U.S. entry, U.S. shipment, and U.S. sale, as required under 19 CFR 351.214(b)(2)(iv)(A) and (C). We also continue to find that Donghua Fine Chemical failed to report its first U.S. entry and/or U.S. shipment within one year of its request for a new shipper review, thus failing to satisfy the deadline requirements of 19 CFR 351.214(c). Because Donghua Fine Chemical's request did not satisfy the regulatory requirements for a new shipper review, we are rescinding the new shipper for Donghua Fine Chemical.

¹ See Glycine from the People's Republic of China: Preliminary Rescission of Antidumping Duty New Shipper Review; 2012, 78 FR 52501 (August 23, 2013) (Preliminary Rescission).

DATES: Effective Date: December 9, 2013.

FOR FURTHER INFORMATION CONTACT: Brian Davis or Angelica Mendoza, AD/CVD Operations, Office VI, Enforcement and Compliance, International Trade Administration, U.S. Department of Commerce, 14th Street and Constitution Avenue NW., Washington, DC 20230; telephone: (202) 482-7924 or (202) 482-3019, respectively.

SUPPLEMENTARY INFORMATION:

Period of Review

The new shipper review covers Hebei Donghua Jiheng Fine Chemical Company, Ltd. (Donghua Fine Chemical) for the period of review March 1, 2012, through August 31, 2012.

Scope of the Order

The product covered by the antidumping duty order is glycine, which is a free-flowing crystalline material, like salt or sugar. The subject merchandise is currently classifiable under Harmonized Tariff Schedule of the United States (HTSUS) subheading 2922.49.4020. The HTSUS subheading is provided for convenience and customs purposes only; the written product description of the scope of the order is dispositive.²

² See Memorandum from Christian Marsh, Deputy Assistant Secretary for Antidumping and Countervailing Duty Operations, to Paul Piquado, Assistant Secretary for Enforcement and Compliance, regarding, “Issues and Decision Memorandum for the Final Rescission of the Antidumping Duty New Shipper Reviews of Glycine from the People's Republic of China” (Final Decision Memorandum), dated concurrently with these results and hereby adopted by this notice, for a complete description of the scope of the order; see also Antidumping Duty Order: Glycine From the People's Republic of China, 60 FR 16116 (March 29, 1995).

Tolling Deadlines

As explained in the memorandum from the Assistant Secretary for Enforcement and Compliance, we have exercised our discretion to toll deadlines for the duration of the closure of the Federal Government from October 1, through October 16, 2013. Therefore, all deadlines in this segment of the proceeding have been extended by 16 days. If the new deadline falls on a non-business day, in accordance with the Department's practice, the deadline will become the next business day. Accordingly, the revised deadline for the final results of this review is now December 2, 2013.³

³ See Memorandum for the Record from Paul Piquado, Assistant Secretary for Enforcement and Compliance, “Deadlines Affected by the Shutdown of the Federal Government” (October 18, 2013).

Methodology

We have conducted this new shipper review in accordance with section 751(a)(2)(B) of the Tariff Act of 1930, as amended (the Act), and 19 CFR 351.214. For a full description of the methodology underlying our conclusions, please see Final Decision Memorandum and Proprietary Analysis Memorandum,⁴ both dated concurrently with, and hereby adopted by, this notice.

⁴ See Memorandum to Paul Piquado, Assistant Secretary for Enforcement and Compliance, regarding “Proprietary Analysis Memorandum for the Final Rescission of the Antidumping Duty New Shipper Review of Glycine from the People's Republic of China” (Proprietary Analysis Memorandum) dated concurrently with these results and hereby adopted by this notice, as much of the discussion is proprietary in nature.

Final Rescission of Donghua Fine Chemical

As we have explained in the Final Decision Memorandum and the Proprietary Analysis Memorandum, we continue to find that, because Donghua Fine Chemical appears to be affiliated with PRC-companies that have had prior shipments of subject merchandise to the United States, it has therefore failed to certify to its first U.S. entry, its first U.S. shipment, and its first U.S. sale, as required by 19 CFR 351.214(b)(2)(iv)(A) and (C).⁵ We also continue to find that Donghua Fine Chemical failed to report its first U.S. entry and/or U.S. shipment within one year of its request for a new shipper review, thus failing to satisfy the deadline requirements of 19 CFR 351.214(c). As a result, we are rescinding the new shipper review of Donghua Fine Chemical.

⁵ See Final Decision Memorandum; see also Proprietary Analysis Memorandum.

Analysis of Comments Received

All issues raised in the case and rebuttal briefs are addressed in the Final Decision Memorandum and Proprietary Analysis Memorandum, both dated concurrently with, and hereby adopted by, this notice. A list of the issues raised in the briefs and addressed in the Final Decision Memorandum is appended to this notice. The Final Decision Memorandum is on file electronically via Enforcement and Compliance's Antidumping and Countervailing Duty Centralized Electronic Service System (IA ACCESS). IA ACCESS is available to registered users at http://iaaccess.trade.gov, and is available to all parties in the Central Records Unit, Room 7046 of the main Department of Commerce building. In addition, a complete version of the Final Decision Memorandum can be accessed directly at http://enforcement.trade.gov/frn/. The signed Final Decision Memorandum and the electronic versions of the Final Decision Memorandum are identical in content.

Cash Deposit Requirements

Effective upon publication of the final rescission of the new shipper review of Donghua Fine Chemical, we will instruct U.S. Customs and Border Protection (CBP) to discontinue the option of posting a bond or security in lieu of a cash deposit for entries of subject merchandise by Donghua Fine Chemical. Cash deposits will be required for exports of subject merchandise by Donghua Fine Chemical entered, or withdrawn from warehouse, for consumption on or after the publication date at the ad valorem PRC-wide rate, 453.79 percent.

Assessment Instructions

As a result of the rescission of the new shipper review of Donghua Fine Chemical, the entries of subject merchandise made by Donghua Fine Chemical covered by this new shipper review will be reviewed in 2012-2013 administrative review. Because the period of review (POR) of the administrative review coincides with the POR of this new shipper review, we will assess Donghua Fine Chemical's entries and issue liquidation instructions for Donghua Fine Chemical's entries upon completion of the 2012-2013 administrative review. Accordingly, upon completion of the 2012-2013 administrative review, we will instruct CBP to assess antidumping duties on entries for Donghua Fine Chemical at the appropriate rate determined in the final results of the 2012-2013 administrative review.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Return or Destruction of Proprietary Information

This notice serves as a reminder to parties subject to the administrative protective order (APO) of their responsibility concerning the disposition of proprietary information disclosed under the APO in accordance with 19 CFR 351.305(a)(3). Timely written notification of return or destruction of APO materials or conversion to judicial protective order is hereby requested. Failure to comply with the regulations and the terms of an APO is a sanctionable violation.

This notice is issued and published in accordance with sections 751(a)(2)(B) and 777(i) of the Act and 19 CFR 351.214.

Dated: December 2, 2013.
Paul Piquado
Assistant Secretary for Enforcement and Compliance.

List of Issues Addressed in the Final Decision Memorandum

Comment 1: Interpretation of the New Shipper Review Certification Requirement

Comment 2: Affiliation Findings

Comment 3: Surrogate Values

[FR Doc. 2013-29337 Filed 12-6-13; 8:45 am]

BILLING CODE 3510-DS-P